ENVIRONMENTAL PROTECTION AGENCY

40 CFR Part 52

[MO 199-1199; FRL-7592-4]

Approval and Promulgation of Implementation Plans; State of Missouri

AGENCY: Environmental Protection Agency (EPA).

ACTION: Proposed rule.

SUMMARY: EPA proposes to approve the State Implementation Plan (SIP) revision submitted by the state of Missouri pertaining to an update to a St. Louis city SIP-approved ordinance, and permit. The effect of this action is to ensure that the SIP is current and consistent with the revised St. Louis city ordinance and permit and are thus Federally enforceable.

DATES: Comments on this proposed action must be received in writing by January 8, 2004.

ADDRESSES: Comments may be submitted either by mail or electronically. Written comments should be mailed to Wayne Kaiser, Environmental Protection Agency, Air Planning and Development Branch, 901 North 5th Street, Kansas City, Kansas 66101. Electronic comments should be sent either to kaiser.wayne@epa.gov or to http://www.regulations.gov, which is an alternative method for submitting electronic comments to EPA. To submit comments, please follow the detailed instructions described in “What action is EPA taking” in the SUPPLEMENTARY INFORMATION section of the direct final rule which is located in the rules section of the Federal Register.

FOR FURTHER INFORMATION CONTACT: Wayne Kaiser at (913) 551-7603, or by e-mail at kaiser.wayne@epa.gov.

SUPPLEMENTARY INFORMATION: In the final rules section of the Federal Register, EPA is approving the state's SIP revision as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: November 18, 2003.
William W. Rice,
Acting Regional Administrator, Region 7.

[FR Doc. 03-30040 Filed 12-8-03; 8:45 am]

BILLING CODE 6560-50-P